CONSUMER PRODUCT SAFETY COMMISSION

Sunshine Act; Notice of Meeting

Federal Register Citation of Previous Announcement: Vol. 75, No. 67, Thursday, April 8, 2010, page 17903.

PREVIOUSLY ANNOUNCED TIME AND DATE OF MEETING: 9 a.m.-11 a.m., Thursday, April 15, 2010, Room 410.

CHANGES IN MEETING: The Agenda is revised to change the time of the meeting to 9 a.m.-12 Noon and to add an additional item:

1. Pending Decisional Matter: Public Database—Notice of Proposed Rulemaking (NPR)

2. Testing and Conformance—Notice of Proposed Rulemaking (NPR) and Testing Component Parts—Notice of Proposed Rulemaking (NPR)

This meeting will be recorded and posted on CPSC's Web site for viewing on the afternoon of April 15th. The meeting can be viewed at http://www.cpsc.gov/webcast/previous.html.

For a recorded message containing the latest agenda information, call (301) 504-7948.

CONTACT PERSON FOR ADDITIONAL INFORM ATION: Todd A. Stevenson, Office of the Secretary, 4330 East West Highway, Bethesda, MD 20814 (301) 504-7923.

Dated: April 8, 2010.
Todd A. Stevenson,
Secretary.

[FR Doc. 2010-8428 Filed 4-8-10; 4:15 pm]

BILLING CODE 6355-01-P